NATIONAL COUNCIL ON DISABILITY

Sunshine Act Meetings

TIME AND DATE: The Members of the National Council on Disability (NCD) will hold a quarterly business meeting on Thursday, October 7, 2021, 12:00 p.m.-4:00 p.m., Eastern Daylight Time (EDT).

PLACE: This meeting will occur via Zoom videoconference. Registration is not required. Interested parties are encouraged to join the meeting in an attendee status by Zoom Desktop Client, Mobile App, or Telephone to dial-in. Updated information is available on NCD's event page at https://ncd.gov/events/2021/upcoming-council-meeting. To join the Zoom webinar, please use the following URL: https://us06web.zoom.us/j/89220055273?pwd=U3F5MCtpbDBzMHBYS2ZLMG1SSFVRQT09 or enter Webinar ID: 892 2005 5273 in the Zoom app. The Passcode is: 824022.

To join the Council Meeting by telephone, dial one of the preferred numbers listed. The following numbers are (for higher quality, dial a number based on your current location): (669) 900-6833; (408) 638-0968; (312) 626-6799; (346) 248-7799; (253) 215-8782; (646) 876-9923; or (301) 715-8592. You will be prompted to enter the meeting ID 990-5149-5407 and passcode 151964. International numbers are also available: https://us06web.zoom.us/u/kdMOIA3DGa.

In the event of audio disruption or failure, attendees can follow the meeting by accessing the Communication Access Realtime Translation (CART) link provided. CART is text-only translation that occurs real time during the meeting and is not an exact transcript.

MATTERS TO BE CONSIDERED: Following welcome remarks and introductions, FY22 policy project updates will be given, including a presentation on NCD's forthcoming Intellectual and Developmental Disabilities Medicaid Dental Reimbursement Project. Following FY22 project updates, the Chairman, Executive Director, and Executive Committee will provide reports. Following those reports, there will be a community advocacy presentation; followed by an update on follow-up policy themes projects; legislative and public affairs updates; a public comment session; an NCD training for Council Members on special government employee pay policy; and any unfinished business before adjournment.

Agenda: The times provided below are approximations for when each agenda item is anticipated to be discussed (all times Eastern Daylight Time):

Thursday, Oct. 7, 2021

12:00-12:05 p.m.—Welcome and Call to Order

12:05-12:50 p.m.—Policy Project Updates, FY22

—Presentation and Q&A: IDD Medicaid-Dental Reimbursement Project

—Updates: HCBS project/congregate settings; 2021 Progress Report (COVID-19); Disparate Treatment of Puerto Rican Residents with Disabilities Report; State Use of QALYs Project; Employee Misclassification Project; Voting Rights Project; Employment Program Inventory; 2022 Progress Report (Climate Change)

12:50-1:00 p.m.—Chairman's Report

1:00-1:10 p.m.—Executive Director Report

1:10-1:30 p.m.—Executive Committee Report

—Updates: Governance Representative Report; Finance Representative Report; Status of funds; Presentation of FY23 budget

1:30-2:05 p.m.—State Advocacy Highlight Presentation

2:05-2:35 p.m.—Updates on Themes Projects

—Updates: Health Equity/Medically Underserved Population Designation & Disability Cultural Competency Curriculum; Use of Quality-Adjusted Life Years (QALYs) as a Barrier to Health Care Access; Rationing and Denying Health Care to People with Disabilities; Medicaid Portability; Fostering Job Growth for People with Disabilities through the Small Business Administration 8(a) Business Development Program; Pursuing Better Data and Federal Guidance Regarding Sexual Assault of Students with Disabilities

2:40-3:00 p.m.—Legislative and Public Affairs Report Out

3:00-3:30 p.m.—Public Comment

Via “Hand Raise” on Zoom; Review of Written Submissions

3:30-4:00 p.m.—NCD Training for Council Members on Special Government Employee Pay Policy

4:00 p.m.—Adjourn

Public Comment: Your participation during the public comment period provides an opportunity for us to hear from you—individuals, businesses, providers, educators, parents and advocates. Your comments are important in bringing to the Council's attention issues and priorities of the disability community. Because of the virtual setting, there will be a hybrid option for submitting public comment. The Council is soliciting public comment by email, in advance of the meeting; or via video or audio over Zoom during the meeting itself. Emailed public comment submissions will be reviewed during the meeting and delivered to members of the Council at its conclusion. You can also present public comment during the session by clicking the “Hand Raise” button in Zoom and waiting to be called on. If you plan to present over Zoom, please provide advance notice. To provide written comments in advance or to provide notice of your intent to present public comment during the live meeting via Zoom, please send an email to PublicComment@ncd.gov with the subject line “Public Comment” and your name, organization, state, and topic of comment included in the body of your email. Submission should be received no later than Oct. 6 to ensure inclusion.

CONTACT PERSON FOR MORE INFORMATION: Nicholas Sabula, Public Affairs Specialist, NCD, 1331 F Street NW, Suite 850, Washington, DC 20004; 202-272-2004 (V), or nsabula@ncd.gov.

Accommodations: An ASL interpreter will be on-camera during the entire meeting, and CART has been arranged for this meeting and will be embedded into the Zoom platform as well as available via streamtext link. The web link to access CART (in English) is: https://www.streamtext.net/player?event=NCD. If you require additional accommodations, please notify Anthony Simpson by sending an email to asimpson.cntr@ncd.gov as soon as possible and no later than 24 hours prior to the meeting.

Due to last-minute confirmations or cancellations, NCD may substitute items without advance public notice.

Dated: September 17, 2021.
Anne C. Sommers McIntosh,
Executive Director.

[FR Doc. 2021-20643 Filed 9-20-21; 4:15 pm]

BILLING CODE 8421-02-P